GENERAL SERVICES ADMINISTRATION

41 CFR Chs. 101, 102, 105, 300, 301, and 302

48 CFR Chs. 5 and 61

Unified Agenda of Federal Regulatory and Deregulatory Actions

AGENCY: General Services Administration (GSA).

ACTION: Semiannual Regulatory Agenda.

SUMMARY: This agenda announces the proposed regulatory actions that GSA plans for the next 12 months and those that were completed since the fall 2010 edition. This agenda was developed under the guidelines of Executive Order 12866, “Regulatory Planning and Review.” GSA's purpose in publishing this agenda is to allow interested persons an opportunity to participate in the rulemaking process. GSA also invites interested persons to recommend existing significant regulations for review to determine whether they should be modified or eliminated. Proposed rules may be reviewed in their entirety at the Government's rulemaking Web site at http://www.regulations.gov.

Since the fall 2007 edition, the Internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including GSA's regulatory plan.

FOR FURTHER INFORMATION CONTACT: Hada Flowers, Division Director, Regulatory Secretariat Division (202) 208-7282.

Dated: March 14, 2011.
Kathleen M. Turco,
Associate Administrator, Office of Governmentwide Policy.
Dated: February 25, 2011.
Millisa Gary,
Acting Director, Acquisition Policy Division.
Dated: March 14, 2011.
Janet Dobbs,
Director, Office of Travel, Transportation & Asset Management.
Dated: February 23, 2011.
Chris Giavis,
Office of Real Property Asset Management.
Dated: February 24, 2011.
Travis Murphy,
General Attorney, Office of General Counsel.
Dated: February 25, 2011.
Sloan Farrell,
Acting Division Director, External Programs, Office of Civil Rights.

General Services Administration—Final Rule Stage
Sequence No. | Title | Regulation Identifier No.
286 | Cooperative Purchasing-Acquisition of Security and Law Enforcement Related Goods and Services (Schedule 84) by State and Local Governments Through Federal Supply Schedules | 3090-AI68
287 | General Services Administration Acquisition Regulation; GSAR Case 2006-G507, Rewrite of Part 538, Federal Supply Schedule Contracting | 3090-AI77
288 | GSAR Case 2011-G503, Implementation of Information Technology Security Provision | 3090-AJ15

GENERAL SERVICES ADMINISTRATION (GSA)

Final Rule Stage

Office of Acquisition Policy

286. Cooperative Purchasing—Acquisition of Security and Law Enforcement Related Goods and Services (Schedule 84) by State and Local Governments Through Federal Supply Schedules

Legal Authority: 40 U.S.C. 121(c); 40 U.S.C. 502(c)(1)(B)

Abstract: The General Services Administration (GSA) is amending the General Services Administration Acquisition Regulation (GSAR) to implement Public Law 110-248, The Local Preparedness Acquisition Act. The Act authorizes the Administrator of General Services to provide for the use by State or local governments of Federal Supply Schedules of the General Services Administration (GSA) for alarm and signal systems, facility management systems, firefighting and rescue equipment, law enforcement and security equipment, marine craft and related equipment, special purpose clothing, and related services (as contained in Federal supply classification code group 84 or any amended or subsequent version of that Federal supply classification group).

Timetable:

Action | Date | FR Cite
Interim Final Rule | 09/19/08 | 73 FR 54334
Interim Final Rule Comment Period End | 11/18/08 |
Final Rule | 09/00/11 |

Regulatory Flexibility Analysis Required: Yes.

Agency Contact: William Clark, Procurement Analyst, General Services Administration, 1275 First Street, NE., Washington, DC 20417, Phone: 202 219-1813, E-mail: william.clark@gsa.gov.

RIN: 3090-AI68

287. General Services Administration Acquisition Regulation; GSAR Case 2006-G507, Rewrite of Part 538, Federal Supply Schedule Contracting

Legal Authority: 40 U.S.C. 121(c)

Abstract: The General Services Administration (GSA) is amending the General Services Administration Acquisition Regulation (GSAR) to revise sections of GSAR part 538 that provide requirements for Federal Supply Schedule Contracting actions. Areas included in the rewrite include the following: Subpart 538.1, Definitions; subpart 538.4, Administrative Matters; subpart 538.7, Acquisition Planning; subpart 538.9, Contractor Qualifications; subpart 538.12, Acquisition of Commercial Items—FSS; subpart 538.15, Negotiation and Award of Contracts; subpart 538.17, Administration of Evergreen Contracts; subpart 538.19, FSS and Small Business Programs; subpart 538.25, Requirements for Foreign Entities; subpart 538.42, Contract Administration and subpart 538.43, Contract Modifications.

Timetable:

Action | Date | FR Cite
NPRM | 01/26/09 | 74 FR 4596
NPRM Comment Period End | 03/27/09 |
Final Rule | 12/00/11 |

Regulatory Flexibility Analysis Required: Yes.

Agency Contact: Deborah Lague, Procurement Analyst, General Services Administration, 1275 First Street, NE., Washington, DC 20417, Phone: 202 694-8149, E-mail: deborah.lague@gsa.gov.

RIN: 3090-AI77

Office of Governmentwide Policy

288. • GSAR Case 2011-G503, Implementation of Information Technology Security Provision

Legal Authority: 40 U.S.C. 121(c)

Abstract: The General Services Administration is issuing an interim rule amending the General Services Administration Acquisition Regulation (GSAR), Part 507, Acquisition Planning; Part 511.1, Selecting and Developing Requirement Documents; Part 539, Acquisition of Information Technology; and Part 552, Solicitation Provisions and Contract Clauses to implement policy and guidelines for contracts and orders that include information technology (IT) supplies, services and systems with security requirements. This is a significant regulatory action and, therefore, was subject to review under Section 6(b) of Executive Order 12866, Regulatory Planning and Review, dated September 30, 1993. This rule is not a major rule under 5 U.S.C. 804.

Timetable:

Action | Date | FR Cite
Interim Final Rule | 09/00/11 |
Interim Final Rule Comment Period End | 11/00/11 |

Regulatory Flexibility Analysis Required: Yes.

Agency Contact: Deborah Lague, Procurement Analyst, General Services Administration, 1275 First Street, NE., Washington, DC 20417, Phone: 202 694-8149, E-mail: deborah.lague@gsa.gov.

RIN: 3090-AJ15

[FR Doc. 2011-15497 Filed 7-6-11; 8:45 am]

BILLING CODE 6820-34-P